DEPARTMENT OF HOUSING AND URBAN DEVELOPMENT

[Docket No. FR-4820-N-42]

Notice of Proposed Information Collection: Comment Request; Request for Construction Change

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments due date: December 23, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Michael McCullough, Director, Office of Multifamily Housing Development, Department of Housing and Urban Development, 451 7th Street, SW., Washington, DC 20410, telephone (202) 708-1142, (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Request for Construction Change.

OMB Control Number, if applicable: 2502-0011.

Description of the need for the information and proposed use: Contractors, mortgagors, and mortgagees use forms HUD-92437, HUD-92441, HUD-92442, HUD-92442A, HUD-92442-CA, HUD-92442-A-CA to obtain approval of changes in contract drawings and specifications from the FHA Commissioner. The information collections are needed by HUD to make sure the respondents are in compliance with the provisions set forth in Article 1.E of the construction contract, which states “Changes in Drawings and Specifications or any terms of the Contract Documents, or orders for extra work, or changes by altering or adding to the work, or which will change the design concept, may be effected only with the prior approval of the Owner's Lender (more particularly identified below and hereinafter referred to a the “Lender”), and the Commission under such conditions as either the Lender or the Commissioner may establish.”

Agency form numbers, if applicable: HUD-92437, HUD-92441, HUD-92442, HUD-92442A, HUD-92442-CA, HUD-92442A-CA.

Estimation of the total numbers of hours needed to prepare the information collection including number of respondents, frequency of response, and hours of response: The estimated total number of burden hours needed to prepare the information collection is 20,300; the number of respondents is 2,200 generating approximately 4,000 annual responses; the frequency of response is on occasion; and the estimated time needed to prepare the responses varies from 1 hour to 16 hours.

Status of the proposed information collection: Extension of a currently approved collection.

Authority: The Paperwork Reduction Act of 1995, 44 U.S.C. Chapter 35, as amended.

Dated: October 16, 2003.
Sean G. Cassidy,
General Deputy Assistant Secretary for Housing—Deputy Federal Housing Commissioner.

[FR Doc. 03-26902 Filed 10-23-03; 8:45 am]

BILLING CODE 4210-27-M